DEPARTMENT OF JUSTICE

National Institute of Corrections

Solicitation for a Cooperative Agreement—Documentation of the Impact of NIC Executive Leadership Training for Women

AGENCY: National Institute of Corrections, DOJ.

ACTION: Solicitation for a cooperative agreement.

SUMMARY: The National Institute of Corrections (NIC) invites applications for a cooperative agreement to assess and document the impact of the NIC Executive Leadership Training for Women. In order to assess its effectiveness and impact, the award recipient will develop an assessment methodology which employs primarily qualitative data, including self-reported outcomes; and secondarily, findings from quantitative analysis of participant assessment instruments. An overview of available data is highlighted later in this announcement.

The award recipient will become familiar with the work currently being done at NIC that provides for an understanding of the history and future development goals of the NIC Executive Leadership Training Program for Women. Through an NIC briefing and review of written materials the recipient will have access to the original design methodology and all aspects of curriculum development and delivery.

This project will be a collaborative venture with the NIC Prisons Division. The results of the project will give guidance to future refinement as NIC seeks to continue to offer the most current and effective offerings for leadership development. A total of $50,000 is reserved for the project which will support one cooperative agreement not to exceed 10 months in duration. The recipient of the award will be selected through this competitive solicitation process. Andie Moss, Correctional Program Specialist is the designated NIC project manager.

Background: History

In the early 1990's the Prisons Division of the National Institute of Corrections made a commitment to a leadership development curriculum that would enhance the ability of women for executive level positions in Corrections. Although some women were in mid-level management and executive positions, the gains realized during the previous 20 years seemed to be slowing. Noting the under-representation of women in executive positions NIC awarded a Cooperative Agreement to develop a curriculum to address this concern. The development of the program was divided into two phases: needs assessment and curriculum design; and a pilot presentation. The program was originally designed for senior level women working in state departments of corrections. It quickly expanded to include professional women from jails and community corrections. Since the development of the core program, additional “phases” or training events have been added to further enhance the long-term development of the graduate and her contribution to her agency.

Background: Curriculum Design

The curriculum design of NIC Executive Leadership for Women was developed as a competency model based on research done with correctional visionaries and women in senior positions in correctional leadership. The administration of several assessment instruments created findings that formed the development of the competencies. Through one such instrument, Strategic Directions Questionnaire, correctional leaders identified ten competencies as essential to a commissioner's future leadership effectiveness. From this, a Correctional Leadership Competency Model was developed. In this original research for the program 48 directors of corrections participated.

In addition, twenty women in correctional leadership positions (directors, deputy directors and regional directors of corrections) completed the Leadership 360™ questionnaire, a competency assessment instrument, which was used in conjunction with the Correctional Leadership Competency Model to identify the area in which women most needed leadership development.

The three largest gap areas—strategic, communication and consensual skills were given particular emphasis in the design of the training. All ten competencies were used in the development of the curriculum. Participants attending the program receive Leadership 360™ feedback, which includes a profile of the individual gap scores against the Correctional Leadership Competency Model.

A brief description of the phases offers an overview of the goals throughout the process. Classes are small, ranging from 20-22 participants. Participants return a year after the first five day program for the Phase II program, a three day event.

Phase I: Executive Leadership

This five-day program focuses on leadership development. A number of assessments, including the Leadership 360™ feedback, are combined with experiential activities and simulations to help participants gain understanding of their own behavior and leadership effectiveness. The program is highly individualized.

Phase II: Strategic Leadership

At the recommendation of Phase I participants, NIC funded a three-day follow-up training. Phase II emphasizes strategic thinking, the leader's role in challenging and encouraging change within the organization, and the use of persuasion and consensual skills for managing change. Phase I and II program participants overlap, thereby creating opportunities for the two classes to network and further build leadership capacity on a national level.

Phase III: Organizational Leadership

With Phase III, NIC extended its leadership program to directors of corrections. Partnerships between Phase I and II participants and their directors are the cornerstone in building organizational competency. Phase III is focused on the dynamics of the organization, especially the use of innovative problem-solving, and the role of the executive team in creating effective vehicles for systemic change.

Scope of the Project

The work of this project will result in:

A. A summary of the impact of the program for a representation of graduates based on the original goals of the program and the competencies that defined the learning objectives.

B. Within the written summary, a section that identifies those aspects of the program which had the most impact on the participants and aspects of the program that need further development or improvement.

C. A recommendation for a training evaluation design for prospective use which will be developed in consultation with NIC and the future program provider.

Project Activities

The National Institute of Corrections is interested in ideas that the applicant may present that will maximize the use of information available through graduate interviews, interviews with key staff working with the graduate, surveys and a review of the program design. The availability of seven years of data from assessment instrumentation allows for a quantitative review of overall trends from participant classes in identifying gap areas and subsequent goal setting based on program goals. This body of information may offer insight into the success of the program based on the original research that identified the competency based curriculum.

A. To support the outcome of the documentation of the program's impact, some of the following possible activities are highlighted to provide guidance to the applicant:

• Conduct interviews with a representation of graduates of the program using the goals of the program as guidance for the development of the interview. At least some portion of these are recommended as face to face interviews. Interviews should also be guided by the questions below listed under required activity.

• Develop a survey to send to all graduates with questions directed at the short and long term impact from participating in the training program.

• Consider both of the above activities for key stakeholders working with the women graduates, i.e. chief executive officer.

• Document the key “learnings” or observations and trends of women who participated.

B. To support the desired outcome of enhancing curriculum development for future offerings of the program some suggested activities may be:

• Review existing curriculum guides, and participants notebooks for potential update of original research.

• Document recommendations from interviews that address program delivery or program design.

• Document recommendations from survey.

• Provide NIC with recommended materials that may inform the Institute on women's leadership development.

• Review available data from class profiles of instrumentation to identify trends in gap areas based on the Correctional Leadership Competency Model.

C. To support the desired outcome of recommending a training evaluation for future programs suggested activities may include:

• A review of effective training evaluation models resulting in a written recommendation.

• Joint discussions with the NIC program manager and the awardee of the NIC Executive Leadership Training for Women cooperative agreement resulting in a written recommendation.

Specific Requirements

• Attending an initial meeting with NIC for overview of program's history and development.

• Collaborating with NIC and the awardee of the cooperative agreement entitled Executive Leadership Training for Women, announced within the next two months in the Federal Register. This collaboration will be for the purpose of sharing information for future program development.

• Designing a project model that would include but would not be limited to collecting information with the following guiding questions:

Does the design of a program just for women matter? Why or why not?

Is the current program design meeting the needs of women in leadership?

What aspects of the program were most helpful to you? Least helpful?

Do you feel your participation in this program increased, decreased or neutrally impacted your leadership effectiveness. Why?

Do you have specific recommendations for improvement of the design of the program?

Authority: Public Law 93-415.

Funds Available

The award will be limited to $50,000 (direct and indirect costs) and project activity must be completed within ten months of the date of award. This project will be a collaborative venture with the NIC Prisons Division.

Application Requirements

The successful applicant will propose a project approach that will ensure accomplishment of each of the stated desired outcomes under the section Scope of Project within this announcement. The applicant will assure that the project team offers technical expertise in the areas of program evaluation and leadership education specific to the development of women in leadership. The project staff identified must indicate a willingness to the commitment of time necessary to complete the project plan.

The success of the work under this project is critical to the further development of NIC's leadership series for executive women. This announcement is running concurrently with the NIC cooperative agreement entitled Executive Leadership Training for Women. Successful applicants for each of these related projects must be willing to work in collaboration to provide for coordinated information sharing in the curriculum refinement goals of NIC. The NIC Program Manager will be responsible for assuring adequate opportunities for coordination.

Deadline for Receipt of Applications

Applications must be received by 4:00 pm on Friday, 3/23/01. They should be addressed to: Director, National Institute of Corrections, 320 First Street, NW., Room 5007, Washington, DC 20534. Hand delivered applications should be brought to 500 First Street, NW., Washington, DC 20534. The front desk will call Bobbi Tinsley at (202) 307-3106, extension 0 for pickup.

Addresses and Further Information

A copy of this announcement, application and forms may also be obtained through the NIC web site: http://www.nicic.org (click on “Cooperative Agreements”). If a written copy is needed contact Judy Evens, Cooperative Agreement Control Office (1-800-995-6423 x 44222 or (202) 307-3106 ext. 44222, email at jevens@bop.gov.) All technical and/or programmatic questions concerning this announcement should be directed to Andie Moss, Project Manager, at 320 First Street, NW, Room 5007, Washington, DC 20534 or by calling 800-995-6423, ext. 30485, 202-307-3106, ext. 30485, or e-mail: amoss@bop.gov.

Review Considerations: Applications received under this announcement will be subject to an NIC three to five member Peer Review Process.

Number of Awards: One (1).

NIC Application Number: 01P05 This number should appear as a reference line in your cover letter and also in box 11 of Standard Form 424.

Executive Order 12372: This program is subject to the provisions of Executive Order 12372. Executive Order 12372 allows States the option of setting up a system for reviewing applications from within their States for assistance under certain Federal programs. Applicants (other than Federally-recognized Indian tribal governments) should contact their State Single Point of Contact (SPOC), a list of which is included in the application kit, along with further instructions on proposed projects serving more than one State.

Catalog of Federal Domestic Assistance Number: 16.603.
Dated: February 8, 2001.
Morris L. Thigpen,
Director, National Institute of Corrections.

[FR Doc. 01-4822 Filed 2-27-01; 8:45 am]

BILLING CODE 4410-36-M